DEPARTMENT OF HOMELAND SECURITY

Coast Guard

33 CFR Part 165

[CGD13-03-018]

RIN 1625-AA00

Security and Safety Zone; Protection of Large Passenger Vessels, Puget Sound, WA; Correction

AGENCY: Coast Guard, DHS.

ACTION: Final rule; correction.

SUMMARY: The Coast Guard Captain of the Port Puget Sound published in the Federal Register of January 14, 2004, a final rule concerning security and safety zones for the protection of large passenger vessels. Wording in § 165.1317(k) is being corrected to better explain the exception paragraph for the regulation. This document makes the clarification.

DATES: This rule is effective February 8, 2004.

FOR FURTHER INFORMATION CONTACT: LTJG T. Thayer, c/o Captain of the Port Puget Sound, 1519 Alaskan Way South, Seattle, WA 98134, (206) 217-6232.

SUPPLEMENTARY INFORMATION: The Coast Guard published a document in the Federal Register on January 14, 2004 (69 FR 2066), adding 33 CFR 165.1317. In this document, paragraph (k) of the regulatory text was not as clear as it could have been. This correction amends the regulatory text published on January 14, 2004.

In rule FR Doc. 04-747 published on January 14, 2004 (69 FR 2066), make the following correction.

§165.1317 [Amended]

On page 2069 in paragraph (k) remove the phrase “the regulations govern” and add in its place the phrase “the measures or directions govern”.

Dated: January 26, 2004.
Steve Venckus,
Chief, Office of Regulations and Administrative Law, Office of the Judge Advocate General, U.S. Coast Guard.

[FR Doc. 04-1924 Filed 1-28-04; 8:45 am]

BILLING CODE 4910-15-P